DEPARTMENT OF HOUSING AND URBAN DEVELOPMENT

[Docket No. FR-5600-FA-02]

Announcement of Funding Awards; Indian Community Development Block Grant Program; Fiscal Year 2012

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2012 (FY 2012) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Glenda Green, Director, Office of Native Programs, 451 7th Street SW., Washington, DC 20410, telephone number 202-402-6329. Hearing or speech-impaired individuals may access this number via TTY by calling the toll-free Federal Relay Service at telephone number 800-877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2012 awards announced in this Notice were selected for funding in a competition posted on HUD's Web site on October 4, 2011 and in a technical amendment posted on November 11, 2011. Applications were scored and selected for funding based on the selection criteria in those notices and Area ONAP geographic jurisdictional competitions.

The amount appropriated in FY 2012 to fund the ICDBG was $60,000,000. Of this amount $3,960,000 was retained to fund imminent threat grants in FY 2012. In addition, a total of $400,000 in carryover funds from prior years was also available. The allocations for the Area ONAP geographic jurisdictions, including carryover from prior years, are as follows:

Eastern/Woodlands: | $6,468,576
Southern Plains: | 11,918,554
Northern Plains: | 8,095,270
Southwest: | 20,969,820
Northwest: | 2,876,273
Alaska: | 6,073,337
Total | 56,401,830

In accordance with Section 102(a)(4)(C) of the Department of Housing and Urban Development Reform Act of 1989 (103 Stat.1987, 42 U.S.C. 3545), the Department is publishing the names, addresses, and amounts of the 76 awards made under the various regional competitions in Appendix A to this document.

Dated: October 24, 2012.
Sandra B. Henriquez,
Assistant Secretary for Public and Indian Housing.

Appendix A
Name/Address of applicant | Amount funded | Activity funded | Project description
Agdaagux Tribe of King Cove, Dale Gould, President, P.O. Box 249, King Cove, AK 99612, (907) 497-2648 | $28,175 | Housing Rehabilitation | Replacement of meter boxes on 60 homes.
All Mission Indian Housing Authority (LaJolla) Dave Shaffer, Executive Director, 27740 Jefferson Ave, Ste 260, Temecula, CA 92590, (951) 760-7390 | 364,679 | Housing Construction | Construction of 2 homes.
All Mission Indian Housing Authority (Pauma), Dave Shaffer, Executive Director, 27740 Jefferson Ave, Ste 260, Temecula, CA 92590, (951) 760-7390 | 547,679 | Housing Construction | Construction of 3 homes.
All Mission Indian Housing Authority (Santa Rosa), Dave Shaffer, Executive Director, 27740 Jefferson Ave, Ste 260, Temecula, CA 92590, (951) 760-7390 | 547,679 | Public Facility—Infrastructure | Infrastructure improvements that will provide access to reservation housing.
All Mission Indian Housing Authority (Torres-Martinez), Dave Shaffer, Executive Director, 27740 Jefferson Ave, Ste 260, Temecula, CA 92590, (951) 760-7390 | 550,635 | Housing Construction | Construction of 3 homes.
Arctic Village, Raymond Tritt, First Chief, P.O. Box 22069, Arctic Village, AK 99722, (907) 587-5523 | 530,000 | Housing Construction | Construction of 2 homes.
Bear River Band of Rohnerville Rancheria, Honorable Leonard Bowman, Chairman, 27 Bear River Drive, Loleta, CA 95551, (707) 534-3859 | 605,000 | Housing Construction | Construction of 4 homes.
Big Pine Paiute Tribe of the Owens Valley, Honorable Virgil Moose, Chairperson, P.O. Box 700, Big Pine, CA 93513, (760) 938-2003 | 605,000 | Housing Rehabilitation | Rehabilitation of 12 homes.
Bois Forte Band of the Minnesota Chippewa Tribe, Sidra Starkovich, P.O. Box 16—1374 Nett, Nett Lake, MN 55772, (218) 757-3261 | 600,000 | Public Facility—Community Center | Pow-Wow grounds and softball fields.
Caddo Nation, Honorable Brenda Edwards, Chairman, P.O. Box 487, Binger, OK 73009, (405) 656-2344 | 800,000 | Public Facility—Community Center | Social Services Building.
Campo Band of Diegueno Mission Indians, Honorable Monique La Chappa, Chairperson, 36190 Church Road, Suite 1, Campo, CA 91906, (619) 478-9046 | 605,000 | Housing Construction | Construction of 4 homes.
Chemehuevi Indian Tribe, Honorable Charles Wood, Chairperson, P.O. Box 1976, Havasu Lake, CA 92363, (760) 858-4219 | 604,998 | Public Facility—Infrastructure | Replacement of antiquated sewer lines.
Chickasaw Nation, Honorable Bill Anoatubby, Governor, P.O. Box 1548, Ada, OK 74821, (580) 436-2603 | 800,000 | Public Facility—Community Center | Renovation of old gymnasium.
Chippewa Cree Tribe, Honorable Bruce Sunchild, Tribal Chairman, 31 Agency Square, Box Elder, MT 59521, (406) 395-5705 | 900,000 | Public Facility—Infrastructure | Smallville Water Improvement Project.
Choctaw Nation, Honorable Gregory E. Pyle, Chief, P.O. Drawer 1210, Durant, OK 74702, (580) 924-8280 | 800,000 | Public Facility—Infrastructure | Pocola sanitary sewer.
Cocopah Indian Housing and Development, Dr. Michael Reed, Executive Director, 10488 Steamboat Street, Somerton, AZ 85350, (928) 627-8863 | 605,000 | Housing Rehabilitation | Rehabilitation of 10 homes.
Coeur D'Alene Tribal Housing Authority, Rosanna Allen, P.O. Box 267, Plummer, ID 83851, (208) 686-1927 | 455,200 | Public Facility—Infrastructure | Construction of a sewage lagoon.
Cook Inlet Tribal Council, Honorable Gloria O'Neill, President, 3600 San Jeronimo, Anchorage, AK 99508, (907) 793-3088 | 600,000 | Public Facility—Special Needs | Construction of a group home for Alaska youth.
Crow Creek Housing Authority, Joseph Sazue, Jr. Executive Director, P.O. Box 19, Fort Thompson, SD 57339, (605) 245-2250 | 900,000 | Housing Rehabilitation | Rehabilitation of 17 rental and 17 owner-occupied housing units.
Dry Creek Rancheria Band of Pomo Indians, Honorable Harvey Hopkins, Chairperson, P.O. Box 607, Geyserville, CA 95448, (707) 522-4290 | 605,000 | Homebuyer Assistance | Homeowner Assistance Program.
Eastern Band of Cherokee Indians of NC, Kim Deas, P.O. Box 455, Cherokee, NC 28719, (828) 497-2771 | 468,576 | Public Facility—Community Center | Construction of a children's home.
Eastern Shawnee Tribe of Oklahoma, Honorable Glenna J. Wallace, Chief, P.O. Box 350, Seneca, OK 64865, (918) 666-2435 | 800,000 | Public Facility—Community Center | Elder Community Center.
Ekwok Village, Honorable Luki Akelkok, President, P.O. Box 70, Ekwok, AK 99580, (907) 464-3336 | 600,000 | Housing Construction | Construction of 6 new homes.
Ely Shoshone Tribe, Honorable Alvin Marques, Chairperson, 16 Shoshone Circle, Ely, Nevada 89301, (775) 289-3013 | 605,000 | Housing Construction | Rehabilitation of 13 homes.
Enterprise Rancheria, Honorable Glenda Nelson, Chairperson, 2133 Monte Vista, Oroville, CA 95966, (530) 532-9214 | 595,000 | Land for Housing | Purchase of 4 existing homes.
Fort McDermitt Paiute-Shoshone Tribe, Honorable Billy Bell, Chairperson, P.O. Box 457, Fort McDermitt, NV, (775) 532-8913 | 605,000 | Economic Development | Construction of Travel Plaza.
Gila River Health Corporation, Heather Chavez, Executive Director, P.O. Box 38, Sacaton, AZ 85147, (602) 528-1456 | 2,750,000 | Public Facility—Infrastructure | Renovation/expansion of the Primary Care Department and constructing a Dental Addition.
Grand Ronde Tribe, Cheryle Kennedy, 9615 Grand Ronde Road, Grand Ronde, OR 97347, (503) 879-5211 | 500,000 | Public Facility—Community Center | Construction of a Food Bank facility.
Hannahville Indian Community, Jill Beaudo, N14911 Hannahville B1 Road, Wilson, MI 49896, (906) 466-2342 | 600,000 | Housing Construction | Transitional Housing Facility.
Ho-Chunk Community Development Corporation, Frank Schersing, Executive Director, 509 Ho-Chunk Plaza North, Winnebago, NE 68071, (402) 878-2192 | 695,270 | Housing Rehabilitation | Rehabilitation of 15 single family homes.
Ho-Chunk Nation of Wisconsin, Paul Tysse, W9814 Airport Rd, Black River Falls, WI 54615, (715) 284-9343 | 600,000 | Housing Rehabilitation | Installation of solar panels on LMI housing.
Hualapai Indian Tribe, Honorable Wilfred Whatoname, Sr., Chairperson, P.O. Box 179, Peach Springs, AZ 86434, (928) 769-2216 | 825,000 | Public Facility—Special Needs | Accessibility improvements to existing public buildings and improvements to the Youth Camp.
Kalispel Tribe, Glen Nenema, P.O. Box 3, Usk, WA 99180, (509) 445-1705 | 421,073 | Public Facility—Infrastructure | Construction of an Elder Center.
Karuk Tribe of California, Honorable Russell Attebery, Chairperson, P.O. Box 1016, Happy Camp, CA 96039, (530) 493-5305 | 605,000 | Public Facility—Community Center | Wellness Center to provide recreation and other activities.
Kaw Nation, Honorable Guy Munroe, Chairman, Drawer 50, Kaw City, OK 74641, (580) 269-2552 | 800,000 | Economic Development | Expansion of a travel plaza.
Klamath Indian Tribe, Gary Frost, P.O. Box 436, Chiloquin, OR 97624, (541) 783-2210 | 500,000 | Public Facility—Community Center | Construction of a preschool center.
Lac du Flambeau Band of Lake Superior Chippewa Indians, Patricia O'Neil, P.O. Box 67, Lac du Flambeau, WI 54538, (715) 588-3303 | 600,000 | Public Facility—Community Center | Art and Cultural Center.
Lower Brule Sioux Tribe, Honorable Michael Jandreau, Tribal Chairman, 187 Oyate Circle, Lower Brule, SD 57548, (605) 473-5561 | 900,000 | Housing Rehabilitation | Rehabilitation of 58 rental homes on Lower Brule Reservation.
Lummi Tribal Housing Authority, Diana Phair, 2828 Kwina Road, Bellingham, WA 98226, (541) 783-2210 | 500,000 | Public Facility—Infrastructure | Construction of roads and utilities for 66 new units.
Mentasta Traditional Council, C. Nora David, First Chief, P.O. Box 601, Mentasta, AK 99780, (907) 291-2319 | 600,000 | Public Facility—Community Center | Construction of a Health Facility.
Muscogee Creek Nation, Honorable George Tiger, Principal Chief, P.O. Box 580, Okmulgee, OK 74447, (918) 756-8700 | 800,000 | Public Facility—Community Center | Student Auxiliary Services Center.
Native Village of Buckland, Honorable Floyd Ticket, President, P.O. Box 67, Buckland, AK 99727, (907) 494-2171 | 600,000 | Housing Construction | Construction of 5 homes.
Native Village of Chitina, Honorable Ronald Mahle, President, P.O. Box 31, Chitina, AK 99566, (907) 823-2215 | 600,000 | Housing Construction | Construction of 3 homes.
Native Village of Kiana, Honorable Larry Westlake, Sr., President, P.O. Box 69, Kiana, AK 99749, (907) 475-2109 | 600,000 | Housing Rehabilitation | Rehabilitation of 25 homes.
Navajo Nation, Honorable Ben Shelly, President, P.O. Box 7440, Window Rock, AZ 86515, (928) 871-6352 | 5,500,000 | Public Facility—Infrastructure | Provide Power Lines & Water Treatment Facilities within the Navajo Nation.
North Fork Rancheria of Mono Indians, Honorable Judy Fink, Chairperson, P.O. Box 929, North Fork, CA 93643, (559) 877-2461 | 605,000 | Public Facility—Community Center | Center for vocational training and job placement and transportation services for low income residents.
Northern Cheyenne Tribal Housing Authority, Lafe Haugen, Executive Director, P.O. Box 327, Lame Deer, MT 59043, (406) 477-6419 | 900,000 | Housing Rehabilitation | Rehabilitation of 27 owner-occupied housing units.
Northern Pueblos Housing Authority, Mr. Terry Hudson, Executive Director, 5 West Gutierrez, Santa Fe, NM 87506, (888) 347-6360 | 599,150 | Housing Construction | Construction of 10 homes.
Oneida Tribe of Indians of Wisconsin, Dale Wheelock, P.O. Box 365, Oneida, WI 54155, (920) 869-2227 | 600,000 | Public Facility—Infrastructure | Water and sewer lines for 40 housing units.
Organized Village of Kasaan, Honorable Richard Peterson, President, P.O. Box 26, Ketchikan, AK 99950, (907) 542-2230 | 599,457 | Public Facility—Community Center | Renovation of an existing structure for a community facility.
Ottawa Tribe of Oklahoma, Honorable Ethel E. Cook, Chief, P.O. Box 110, Miami, OK 74355, (918) 540-1536 | 800,000 | Economic Development | Construction of a travel plaza.
Paiute Indian Tribe of Utah, Honorable Gayle Rollo, Tribal Chairperson 440 North Paiute Drive, Cedar City, UT 84721, (435) 586-1112 | 900,000 | Economic Development | Development of an RV park and, Campground.
Pauloff Harbor Village, Honorable Gayle Rollo, Tribal Chairperson, P.O. Box 19, Sand Point, AK 99661, (907) 383-6075 | 356,218 | Housing Construction | Construction of 1 home.
Pawnee Nation, Honorable Marshall Gover, President, P.O. Box 470, Pawnee, OK 74058, (918) 762-3621 | 800,000 | Public Facility—Community Center | Design and construction of Pawnee Tribal Elder Center.
Pokagon Band of Potawatomi Indians, Kevin Daugherty, P.O. Box 180, Dowagiac, MI 49047, (269) 782-8998 | 600,000 | Public Facility—Infrastructure | Waterline extension project.
Pueblo of Acoma Housing Authority, Floyd Tortalita, Executive Director, P.O. Box 309, Acoma Pueblo, NM 87034, (505) 552-5174 | 825,000 | Housing Rehabilitation | Rehabilitation of 20 homes.
Qawalangin Tribe of Unalaska, Honorable Denise Rankin, President, P.O. Box 33, Unalaska, AK 99685, (907) 581-2920 | 419,487 | Housing Construction | Construction of 1 home.
Quapaw Tribe of Oklahoma, Honorable John Berrey, Chairman, P.O. Box 765, Quapaw, OK 74363, (918) 542-1853 | 800,000 | Public Facility—Community Center | Construction of a wellness center and community safe room.
Resighini Rancheria, Honorable Donald McCovey, Chairperson, P.O. Box 529, Klamath, CA 95548, (707) 482-2431 | 605,000 | Economic Development | Rehabilitation and improvement to the Chere-ere Bridge RV Park.
Sac & Fox Tribe of the Mississippi in Iowa, Larry Lasley, Route 2, Box 56C, Tama, IA 52339, (641) 484-4678 | 600,000 | Economic Development | Construct a Travel Center.
Salish & Kootenai Housing Authority, Jason Adams, Executive Director, P.O. Box 38, Pablo, MT 59855, (406) 675-4491 | 1,100,000 | Housing Rehabilitation | Rehabilitation of 14 owner-occupied/3 rental units and homebuyer assistance.
Sault Ste. Marie Tribe of Chippewa Indians of MI, Joanne Umbrasas, 523 Ashmun Street, Sault Ste. Marie, MI 49783, (906) 635-6050 | 600,000 | Public Facility Infrastructure | Waterline extension project.
Seminole Nation, Honorable Leonard Harjo, Principal Chief, P.O. Box 1498, Weoka, OK 74884, (405) 257-6287 | 800,000 | Public Facility—Community Center | Construction of a multi-purpose community health and wellness center.
Seneca Cayuga Tribe of Oklahoma, Honorable Leroy Howard, Chief, 23701 S. 655 Road, Grove, OK 74344, (918) 787-5452 | 800,000 | Public Facility—Community Center | Construction of a Family Services Center.
Shawnee Tribe, Honorable Ron Sparkman, Chairman, P.O. Box 189, Miami, OK 74355, (918) 542-2441 | 739,275 | Public Facility—Community Center | Rehabilitation of Social Services Resource Center.
Spirit Lake Housing Corporation, Douglas Yankton, Executive Director, P.O. Box 187, Fort Totten, ND 58335, (701) 766-4131 | 900,000 | Housing Rehabilitation | Rehabilitation of 21 rental units in an elderly housing complex.
St. Croix Chippewa Indians of Wisconsin, Stuart Bearheart, 24663 Angeline Ave, Webster, WI 54893, (715) 349-2195 | 600,000 | Housing Rehabilitation | Rehabilitation of 22 units.
Tunica-Biloxi Tribe of Louisiana, Honorable Earl J. Barbry Sr., Chairman, P.O. Box 1589, Markville, LA 71351, (318) 253-9767 | 779,279 | Public Facility—Community Center | Construction of a social services building.
United Keetoowah Band of Cherokee Indians of Oklahoma, Honorable George Wickliffe, Chief, P.O. Box 746, Tahlequah, OK 74465, (918) 456-5126 | 800,000 | Public Facility—Community Center | Expansion of a Museum/Cultural Center.
Ute Indian TDHE, Emmett Duncan, Executive Director, P.O. Box 250, Fort Duchesne, UT 84026, (435) 722-4656 | 900,000 | Housing Rehabilitation | Rehabilitation of 23 single family homes.
Village of Venetie, Joshua Roberts, First Chief, P.O. Box 81119, Venetie, AK 99781, (907) 849-8212 | 540,000 | Housing Construction | Construction of 2 homes.
Wells Indian Colony Band of Te-Moak Tribe of Western Shoshone, Honorable Paula Salazar, Chairperson, P.O. Box 809, Wells, NV 89835, (775) 752-3045 | 605,000 | Economic Development | Design and construction of a Small Business Development Incubator.
White Earth Band of the Minnesota Chippewa Tribe, Michael Triplett, P.O. Box 418, White Earth, MN 56591, (218) 983-3285 | 600,000 | Public Facility—Community Center | Health facility addition.
Wyandotte Nation, Honorable Billy Friend, Chief, 64700 E Highway 60, Wyandotte, OK 74370, (918) 678-2297 | 800,000 | Public Facility—Community Center | Housing services center.
Yakama Nation Housing Authority, James Berg, P.O. Box 156, Wapato, WA 98951, (509) 877-6171 | 500,000 | Public Facility—Infrastructure | Construction of a new hydro well with pump station.
Yurok Tribe, Honorable Thomas O'Rourke Sr., Chairperson, P.O. Box 1027, Klamath, CA 95548, (707) 482-1350 | 605,000 | Public Facility—Community Center | Purchase of the Yurok Tribe Early Education and Family Resource Center.

[FR Doc. 2012-27471 Filed 11-8-12; 8:45 am]

BILLING CODE 4210-67-P